DEPARTMENT OF TRANSPORTATION

Pipeline and Hazardous Materials Safety Administration

[Docket No. PHMSA-2009-0304]

Request for Public Comments and OMB Approval of Existing Information Collection

AGENCY: Pipeline and Hazardous Materials Safety Administration.

ACTION: Request for Public Comments and OMB approval of existing Information Collection.

SUMMARY: On October 15, 2009, as required by the Paperwork Reduction Act of 1995, the Pipeline and Hazardous Materials Safety Administration (PHMSA) published a notice in the Federal Register to invite comments on a proposed revision to an information collection under Office of Management and Budget (OMB) Control No. 2137-0584, titled “Gas and Hazardous Liquid Pipeline Safety Program.” Three comments were received. PHMSA is publishing this notice to respond to those comments, provide the public with an additional 30 days to comment on the proposed revision, and announce that the revised Information Collection will be submitted to the Office of Management and Budget (OMB) for approval.

DATES: Interested persons are invited to submit comments on or before May 7, 2010.

ADDRESSES: You may submit comments identified by the docket number PHMSA-2009-0304 by any of the following methods:

• Federal eRulemaking Portal: http://www.regulations.gov. Follow the online instructions for submitting comments.

• Fax: 1-202-395-6566.

• Mail: Office of Information and Regulatory Affairs (OIRA), Office of Management and Budget (OMB), 726 Jackson Place, NW., Washington, DC 20503, ATTN: Desk Officer for Department of Transportation (DOT).

• E-mail: Office of Information and Regulatory Affairs (OIRA), Office of Management and Budget, at the following address: oira_submissions@omb.eop.gov.

FOR FURTHER INFORMATION CONTACT: Cameron Satterthwaite by telephone at 202-366-1319, by fax at 202-366-4566, or by mail at U.S. Department of Transportation, Pipeline and Hazardous Materials Safety Administration, 1200 New Jersey Avenue, SE., PHP-30, Washington, DC 20590-0001.

SUPPLEMENTARY INFORMATION: Section 1320.8(d), Title 5, Code of Federal Regulations requires PHMSA to provide interested members of the public and affected agencies an opportunity to comment on information collection and recordkeeping requests. This notice identifies an information collection request that PHMSA is submitting to OMB for revision under OMB Control No. 2137-0584. This information collection is contained in 49 CFR part 198.

PHMSA received comments on the proposed revisions to the information collection from Carolinas AGC, Florida Public Service Commission, and the National Association of Pipeline Safety Representatives (NAPSR). Each of these entities expressed concerns regarding changes to the performance factors (questions with points) or the weights of each factor (score) in the overall scoring of the certification part of the grant allocation formula for the pipeline safety grant program. PHMSA is not making any changes to these areas. Rather, PHMSA is only revising the information collection to incorporate the use of tools that help to determine the amount of funds received by each participating State, and the parameters for those tools have been established for several years. PHMSA is proceeding with the tools specified in the Docket.

An estimate of the revised burden is as follows:

Title: Pipeline Safety: Gas and Hazardous Liquid Pipeline Safety Program Certifications.

OMB Control Number: 2137-0584.

Type of Request: Revision of a currently approved information collection.

Abstract: A State agency participating in the pipeline safety program must maintain records to demonstrate that the agency is properly monitoring the operations of pipeline operators in that State. The State agency must also submit an annual certificate to PHMSA verifying compliance. PHMSA uses the information collected to evaluate the State's eligibility for Federal grants.

Estimated number of respondents: 67.

Estimated annual burden hours: 3,920 hours.

Frequency of collection: Annually.

Issued in Washington, DC, on April 1, 2010.
Alan K. Mayberry,
Deputy Associate Administrator for Field Operations.

[FR Doc. 2010-7930 Filed 4-6-10; 8:45 am]

BILLING CODE 4910-60-P